DEPARTMENT OF COMMERCE

International Trade Administration

[A-570-891]

Notice of Final Determination of Sales at Less Than Fair Value: Hand Trucks and Certain Parts Thereof from the People's Republic of China

AGENCY: Import Administration, International Trade Administration, Department of Commerce.

EFFECTIVE DATE: October 14, 2004.

FOR FURTHER INFORMATION CONTACT: Daniel J. Alexy, Stephen Cho, or Audrey Twyman, Import Administration, International Trade Administration, U.S. Department of Commerce, 14th Street and Constitution Avenue, NW., Washington, DC 20230; telephone: (202) 482-1540, (202) 482-3798, or (202) 482-3534, respectively

Final Determination

We determine that hand trucks and certain parts thereof (“hand trucks”) from the People's Republic of China (“PRC”) are being sold, or are likely to be sold, in the United States at less than fair value (“LTFV”), as provided in section 735 of the Tariff Act of 1930, as amended (the “Act”). The estimated margins of sales at LTFV are shown in the “Continuation of Suspension of Liquidation” section of this notice.

Case History

The preliminary determination in this investigation was issued on May 17, 2004. See Notice of Preliminary Determination of Sales at Less Than Fair Value and Postponement of Final Determination: Hand Trucks and Certain Parts Thereof From the People's Republic of China, 69 FR 29509 (May 24, 2004) (“Preliminary Determination”).

Since the Preliminary Determination, the following events have occurred. In May of 2004, the Department of Commerce (“the Department”) sent out supplemental questionnaires to Qingdao Huatian Hand Truck Co., Ltd. (“Huatian”), Qingdao Taifa Group Co., Ltd. (“Taifa”), Qingdao Xinghua Group Co., Ltd. (“Xinghua”), and True Potential Company (“True Potential”). In June of 2004, the Department received responses from these four mandatory respondents participating in this investigation. From July 8 through 15, 2004, we conducted verification of the questionnaire responses of Huatian. On July 16 and 19, 2004, we conducted True Potential's verification. From July 19 through 23, 2004, we conducted Taifa's verification, and from July 26 through 30, 2004, we conducted Xinghua's verification.

On July 30, 2004, Huatian and Taifa submitted revised U.S. sales and factors of production (“FOP”) databases incorporating minor error corrections reported to the Department at the opening of each company's verification. Taifa's July 30, 2004, submission contained corrections related to the so-called “allocated inputs” in addition to its minor error corrections. On September 3, 2004, the Department rejected Taifa's July 30, 2004, submission, on the grounds that the additional corrections were unsolicited new factual information. See the Department's September 3, 2004, Letter to Taifa. The Department requested that Taifa remove the additional corrections, and resubmit its FOP database without the new factual information.

In a September 8, 2004, meeting with Department officials, Taifa's counsel argued that Taifa's July 30, 2004, submission did not contain any new factual information. See Memorandum to File; Re: Ex-parte Meeting-Qingdao Taifa Group Co. Ltd, September 8, 2004. On September 9, 2004, the Department requested Taifa to resubmit its July 30, 2004, submission, and further invited all parties to comment on whether the additional corrections contained in Taifa's July 30, 2004, submission should be considered new factual information. See Memorandum to File; Re: Briefing Schedule-Rejection of Taifa's July 30, 2004 Submission, September 9, 2004. On September 13, 2004, we received comments from Taifa. On September 15, 2004, the petitioners (Gleason Industrial Products, Inc. and Precision Products, Inc. (collectively the “petitioners”)) submitted their reply comments.

On September 10, 2004, the petitioners and their counsel submitted on the record affidavits pertaining to “certain information revealed in and corroborated by” the Department's verification of Taifa. On September 16, 2004, the Department rejected that submission as untimely, unsolicited new factual information.

We received comments from interested parties on the Preliminary Determination. On September 10, 2004, we received case briefs from the petitioners, Huatian, Taifa, True Potential, and Zhenhua Industrial Group Co., Ltd. (“Zhenhua”), and on September 15, 2004, rebuttal briefs from the petitioners, Huatian, Qingdao Future Tool Inc. (“Future Tool”), Taifa, and True Potential. On September 17, 2004, the Department identified certain information in the petitioners' September 10, 2004, case brief as untimely, unsolicited new factual information. As a result, the Department rejected the petitioners' September 10, 2004, case brief in its entirety, and requested the petitioners to revise and resubmit their case brief without the new factual content. The petitioners resubmitted their case brief on September 21, 2004. The Department held a public hearing on September 17, 2004, at the request of the petitioners, Huatian, Taifa, True Potential, Xinghua, and Zhenhua.

Scope of the Investigation

For the purpose of this investigation, the product covered consists of hand trucks manufactured from any material, whether assembled or unassembled, complete or incomplete, suitable for any use, and certain parts thereof, namely the vertical frame, the handling area and the projecting edges or toe plate, and any combination thereof.

A complete or fully assembled hand truck is a hand-propelled barrow consisting of a vertically disposed frame having a handle or more than one handle at or near the upper section of the vertical frame; at least two wheels at or near the lower section of the vertical frame; and a horizontal projecting edge or edges, or toe plate, perpendicular or angled to the vertical frame, at or near the lower section of the vertical frame. The projecting edge or edges, or toe plate, slides under a load for purposes of lifting and/or moving the load.

That the vertical frame can be converted from a vertical setting to a horizontal setting, then operated in that horizontal setting as a platform, is not a basis for exclusion of the hand truck from the scope of this petition. That the vertical frame, handling area, wheels, projecting edges or other parts of the hand truck can be collapsed or folded is not a basis for exclusion of the hand truck from the scope of the petition. That other wheels may be connected to the vertical frame, handling area, projecting edges, or other parts of the hand truck, in addition to the two or more wheels located at or near the lower section of the vertical frame, is not a basis for exclusion of the hand truck from the scope of the petition. Finally, that the hand truck may exhibit physical characteristics in addition to the vertical frame, the handling area, the projecting edges or toe plate, and the two wheels at or near the lower section of the vertical frame, is not a basis for exclusion of the hand truck from the scope of the petition.

Examples of names commonly used to reference hand trucks are hand truck, convertible hand truck, appliance hand truck, cylinder hand truck, bag truck, dolly, or hand trolley. They are typically imported under heading 8716.80.50.10 of the Harmonized Tariff Schedule of the United States (“HTSUS”), although they may also be imported under heading 8716.80.50.90. Specific parts of a hand truck, namely the vertical frame, the handling area and the projecting edges or toe plate, or any combination thereof, are typically imported under heading 8716.90.50.60 of the HTSUS. Although the HTSUS subheadings are provided for convenience and customs purposes, the Department's written description of the scope is dispositive.

Excluded from the scope are small two-wheel or four-wheel utility carts specifically designed for carrying loads like personal bags or luggage in which the frame is made from telescoping tubular material measuring less than ⅝ inch in diameter; hand trucks that use motorized operations either to move the hand truck from one location to the next or to assist in the lifting of items placed on the hand truck; vertical carriers designed specifically to transport golf bags; and wheels and tires used in the manufacture of hand trucks.

Scope Comments

The Department received scope exclusion/clarification comments from ten parties requesting that the Department determine whether certain products produced by these parties are covered by the scope of the investigation. The Department has addressed these requests in the following memoranda: “Scope Exclusion/Clarification Requests: Angelus Manufacturing; Custom Carts LLC; Illinois Tool Works, Inc.; Qingdao Huatian Hand Truck Co., Ltd; WelCom Products Inc.; and LL King Corporation” from Susan Kuhbach to Jeffrey May (September 3, 2004) and “Scope Exclusion/Clarification Requests: Alton Industries, Inc.; Safco Products Company; A. J. Wholesale Distributors, Inc.; and Wilmar Corporation” from Susan Kuhbach to Jeffrey May (October 6, 2004). On September 27, 2004, Total Trolley, LLC requested that its horizontal trolley be excluded from the scope of this investigation. We did not receive this request in time for the final determination. Therefore, we will address this scope request after the final determination.

Period of Investigation

The period of investigation (“POI”) is April 1, 2003, through September 30, 2003, which corresponds to the two most recent fiscal quarters prior to the month of the filing of the petition (i.e., November 2003).

Nonmarket Economy Status for the PRC

The Department has treated the PRC as a nonmarket economy (“NME”) country in all past antidumping investigations. See, e.g., Final Determination of Sales at Less Than Fair Value and Critical Circumstances: Certain Malleable Iron Pipe Fittings From the People's Republic of China, 68 FR 61395, 61396 (Oct. 28, 2003). A designation as an NME remains in effect until it is revoked by the Department. See section 771(18)(C) of the Act. No party in this investigation has requested a revocation of the PRC's NME status. Therefore, we have continued to treat the PRC as an NME in this investigation. For further details, see Preliminary Determination, 69 FR at 29511.

Separate Rates

In our Preliminary Determination, we found that Huatian, Taifa, True Potential, Xinghua, Future Tool and Shandong Machinery Import & Export Group Corp. (“Shandong”) met the criteria for receiving separate antidumping rates. See Preliminary Determination, 69 FR at 29511-29512. The petitioners have requested that the Department deny separate rates to these companies and apply the PRC-wide rate to all exporters of the subject merchandise. As explained in Comments 13 through 16 of the October 6, 2004, Issues and Decision Memorandum for the Antidumping Duty Investigation of Hand Trucks and Certain Parts Thereof from the People's Republic of China; Final Determination (“Decision Memorandum”), we continue to find that each of these exporters should be assigned an individual dumping margin because the evidence on the record indicates an absence of government control, both in law and in fact, over the export activities of Huatian, Taifa, True Potential, Xinghua, Future Tool, and Shandong. For a complete discussion of the Department's determination that the respondents are entitled to separate rates, see Preliminary Determination, 69 FR at 29511.

Margins for Cooperative Exporters Not Selected

For our final determination, consistent with our Preliminary Determination, we have calculated a weighted-average margin for Future Tool and Shandong based on the rates calculated for those exporters that were selected to respond in this investigation, excluding any rates that are zero, de minimis or based entirely on adverse facts available. See Preliminary Determination, 69 FR at 29512. Companies receiving this rate are identified by name in the “Continuation of Suspension of Liquidation” section of this notice.

Surrogate Country

For purposes of the final determination, we continue to find that India is the appropriate primary surrogate country for the PRC. For further discussion and analysis regarding the surrogate country selection for the PRC, see Preliminary Determination, 69 FR at 29515.

Use of Facts Otherwise Available

Sections 776(a)(2)(A), (B), (C), and (D) of the Act provide that the Department shall use facts available when a party withholds information that has been requested by the administering authority under this subtitle; does not provide the Department with information by the established deadline or in the form and manner requested by the Department; significantly impedes a proceeding; or provides such information but the information cannot be verified. In addition, section 776(b) of the Act provides that, if the Department finds that an interested party “has failed to cooperate by not acting to the best of its ability to comply with a request for information,” the Department may use information that is adverse to the interests of that party as facts otherwise available in selecting from among the facts available. Such adverse inference may include reliance on information derived from: (1) The petition; (2) a final determination in the investigation under this title; (3) any previous review under section 751 or determination under 753; or (4) any other information placed on the record. See 19 CFR 351.308(c).

On the basis of our findings in this investigation, which are detailed below, we have determined that the use of facts otherwise available is appropriate for the PRC-wide entity, Taifa and Xinghua because they have not provided certain information in the form or manner requested.

The PRC-Wide Rate

As explained in the Department's Preliminary Determination, there are numerous producers/exporters of the subject merchandise in the PRC. See Preliminary Determination, 69 FR at 29513. As noted in the Preliminary Determination, all exporters were given the opportunity to respond to the Department's questionnaire. Based upon our knowledge of the PRC and the fact that U.S. import statistics show that the responding companies did not account for all imports into the United States from the PRC, we have determined that certain PRC exporters of hand trucks failed to respond to our questionnaire. Because we did not receive data needed to calculate a margin for those companies, which we are treating as the PRC-wide entity, we are continuing to use facts available pursuant to Section 776(a) of the Act for our final determination.

Moreover, we continue to find that because the exporters comprising the PRC-wide entity failed to respond to our requests for information, they have failed to cooperate to the best of their ability. See Preliminary Determination, 69 FR at 29515. Accordingly, the Department will apply an adverse inference in selecting among the facts available. See Section 776(b) of the Act.

As adverse facts available, we are assigning as the PRC-wide rate the higher of: (1) The highest margin listed in the notice of initiation; or (2) the margin calculated for any respondent in this investigation. See, e.g., Final Determination of Sales at Less Than Fair Value: Certain Cold-Rolled Flat-Rolled Carbon Quality Steel Products From The People's Republic of China, 65 FR 34660 (May 31, 2000), and accompanying Decision Memorandum at Comment 1. For purposes of the final determination of this investigation, we have further updated information used to corroborate the margin stated in the petition. The corroborated margin from the petition is now 386.75 percent. See Memorandum from John Brinkmann to the File dated October 6, 2004, regarding calculation of the adverse facts available margin.

Taifa

In the Preliminary Determination, we calculated a margin for Taifa in which we applied partial facts available in our calculation of normal value because of inconsistencies between the reported weights for completed hand trucks and parts, and the reported inputs used to produce the hand trucks and parts. See Preliminary Determination, 69 FR at 29514. Subsequent to the Preliminary Determination, we conducted verification of Taifa's questionnaire responses. On the last day of verification, Taifa reported an error in its allocation formula for certain inputs, which had not been included in Taifa's list of minor error corrections presented at the beginning of the verification. Because of problems with its allocation formula, Taifa was unable to present the Department with final input amounts for the FOP data fields affected by the allocation formula. See Qingdao Taifa Group Co. Ltd. Verification Report, September 3, 2004 (“Taifa Verification Report”) at 17.

On July 30, 2004, Taifa submitted its revised U.S. sales and FOP response which included updated data reflecting its minor corrections and revised data for the allocated inputs, which Taifa claimed was based on the corrected allocation formula. As explained above in the “Case History” section, the Department solicited comments from the parties on whether the revised data for allocated inputs should be considered unsolicited, new factual information.

Upon review of Taifa's July 30, 2004, submission and the parties' comments, we have determined that the revised values for the allocated inputs constitute unsolicited, new factual information. Although Taifa informed the Department at verification that the per-unit amounts of the reported allocated inputs had been miscalculated due to an error in the allocation formula, Taifa was not able to provide corrected data at the time of verification. As the Department stated in the verification report: “* * *because of inaccuracies in the data for the allocated inputs in the electronic spreadsheets provided by Taifa, we were unable to verify the allocation of these inputs into the second and third level spreadsheets, and the reported per-unit consumption of these inputs for any of the selected models.” See Taifa Verification Report at 18. Because the Department did not verify this correction, it did not request that Taifa provide the corrected allocated input data after verification.

Taifa has argued that it is incumbent upon the Department to accept the corrected information regarding the allocated inputs as a clerical error, as required by NTN Bearings. NTN Bearing Corporation v. United States, 74 F.3d 1204, 1208 (Fed. Cir.1995) (“NTN Bearings”). Following NTN Bearings, the Department established a six-part test, indicating that it will accept corrections of clerical errors when the following conditions are met:

(1) The error in question must be demonstrated to be a clerical error, not a methodological error, an error in judgement, or a substantive error; (2) the Department must be satisfied that the corrective documentation provided in support of the clerical error allegation is reliable; (3) the respondent must have availed itself of the earliest reasonable opportunity to correct the error; (4) the clerical error allegation, and any corrective documentation, must be submitted to the Department no later than the due date for the respondent's administrative case brief; (5) the clerical error must not entail a substantial revision of the response; and (6) the respondent's corrective documentation must not contradict information previously determined to be accurate at verification. See Certain Fresh Cut Flowers from Colombia; Final Results of Antidumping Duty Administrative Reviews, 61 FR 42833, 42834 (August 19, 1996).

In order for the Department to accept a clerical error late in the proceeding, all of the six conditions must be met. We determine that Taifa's allocation error does not meet two of the six conditions.

Under this test, the Department must be satisfied that the corrective documentation provided in support of the clerical error allegation is reliable. As the Department noted in Taifa's verification report, the Department was unable to verify the reliability of the error with source documentation. Specifically, the Department stated in the verification report that “* * *because of inaccuracies in the data for the allocated inputs in the electronic spreadsheets provided by Taifa, we were unable to verify the allocation of these inputs into the second and third level spreadsheets, and the reported per-unit consumption of these inputs for any of the selected models.” See Taifa Verification Report at 18. Thus, as a result of the error, the Department could not verify (1) whether the correction submitted to the Department was accurate; or (2) any of Taifa's allocated inputs because the allocation formula given at verification was incorrect. Because the Department could not verify the corrected error, it cannot be satisfied that the corrected error is reliable, and therefore, the second prong of the Department test is not met.

In addition, the error submitted by Taifa fails the fifth prong of the Department's test, i.e., correction of this clerical error must not entail a substantial revision of the response. Specifically, the error affected the usage rates of a significant number of inputs for every model sold in the United States. Given that Taifa produced hand trucks or inputs to hand trucks in many workshops, that monthly data was compiled for each workshop over the six-month POI, and that Taifa reported FOP for a large number of hand truck models or parts, the error in Taifa's allocation formula affected thousands of pieces of information that went into the calculation of normal value. Although we cannot know the correct amount that these allocated inputs account for relative to the total normal value (because we do not know the correct amount of the allocated inputs), based on the amounts used in Taifa's July 2, 2004, submission, these inputs account for approximately 25 percent of the total value of the hand truck or hand truck part. Based on this, we determine that the correction proffered by Taifa would be a substantial revision of the company's response.

Therefore, we have not accepted this correction as a clerical error or minor correction, nor have we relied on this data contained in the July 30, 2004, submission.

The allocated input data submitted in Taifa's July 2, 2004, response is the data that the Department sought to verify. As explained by Taifa at verification, the allocated input amounts in that response were incorrect. Because Taifa failed to provide the Department with information in the form or manner requested, and the July 2, 2004, data could not be verified, we determine that the usage rates for the allocated inputs must be based on facts otherwise available, in accordance with section 776(a)(2).

We further determine that Taifa failed to cooperate by not acting to the best of its ability. Specifically, Taifa was not fully prepared for the verification of its FOP database as was evidenced by the fact that Taifa did not discover the error in its allocation formula until the last day of its verification. Moreover, Taifa did not present the Department with documentation for verification of this error. If Taifa had been fully prepared, it would have detected the allocation error during the preparation for verification, rather than the last day of verification. Thus, in accordance with section 776(b), we have applied an adverse inference in selecting the usage information for the allocated inputs.

Because we could not verify the reported amounts of allocated inputs by model in Taifa's July 2, 2004, submission, we have selected the highest amount of the allocated inputs, as follows. In our questionnaire in this investigation, we requested Taifa to assign each hand truck model/part into one of 12 designated weight range categories based on the shipping weight of the hand truck/part. As adverse facts available, we have selected the highest reported amount for each allocated input for hand trucks/parts within a given weight range reported in Taifa's July 2, 2004, response and assigned that value to all hand trucks/parts in that weight range.

Xinghua

In the Preliminary Determination, we calculated a margin for Xinghua in which we applied partial facts available in our calculation of normal value because of inconsistencies between the reported weights for completed hand trucks and parts, and the reported inputs used to produce the hand trucks and parts. See Preliminary Determination, 69 FR at 29514. Subsequent to the Preliminary Determination, we conducted verification of Xinghua's questionnaire responses from July 26 to July 30, 2004. See Qingdao Xinghua Group Co., Ltd. Verification Report, September 3, 2004 (“Xinghua Verification Report”).

The Department submitted its verification outline to Xinghua on June 24, 2004, approximately one month prior to the commencement of verification, thereby giving Xinghua sufficient time to prepare for verification. See Xinghua's Verification Outline, dated June 24, 2004 (“Xinghua Verification Outline”). The purpose of submitting a verification outline in advance of verification is to give respondents sufficient notice about the types of source documents that the Department will seek to examine during verification, and to afford respondents sufficient time to compile source documents requested in the verification outline. As noted below, Xinghua failed to follow the instructions detailed in the Department's verification outline and failed to present source documents in a timely manner for verification. At no time prior to verification did Xinghua contact the Department with questions about verification procedures, documents to prepare for verification, or the verification outline.

Xinghua was unprepared for verification and its unpreparedness significantly impeded the verification process. On the first day of Xinghua's FOP verification, the Department found that, despite the specific instructions given in the verification outline, Xinghua had few source documents prepared in advance for review and those that were prepared were inadequate to support the data submitted to the Department by Xinghua. See Xinghua Verification Report at 14 and 15. Department officials reiterated to Xinghua the need to provide the information requested in the outline but throughout the remaining time allocated for the full verification, Xinghua was unable to provide the required information in the form requested by the Department. See Xinghua Verification Report at 14. Because Xinghua was unprepared for verification, and was unable to provide the source documentation required, the Department was not able to verify Xinghua's factors of production. Specifically, Xinghua was not able to provide source documentation supporting its reported consumption of raw materials, energy and labor for the production of hand trucks, or otherwise explain how it derived the factor inputs it reported to the Department. Thus, the Department was unable to verify the factors of production Xinghua reported for its production of hand trucks.

Furthermore, numerous discrepancies were found in verifying Xinghua's reported U.S. sales data. See Xinghua Verification Report at 7. Because of these discrepancies, we were not able to verify Xinghua's reported quantity and value of sales to the United States.

Pursuant to section 776(a)(2) of the Act, the Department must use facts otherwise available because Xinghua withheld certain information that had been requested by the Department, failed to provide certain information by the Department's statutory deadlines and in the form and manner requested, and failed to provide certain information that could be verified. We further determine that an adverse inference is warranted in selecting from among the facts available because Xinghua failed to cooperate to the best of its ability at verification. Specifically, Xinghua was not able to explain discrepancies in its reported sales data nor to provide source documentation for or explain the reported FOP for its hand trucks.

Because the Department was unable to verify Xinghua's FOP and sales data, we have no reliable data to calculate a margin for the final determination. In accordance with sections 776(a)(2)(A), (B), (C), and (D), as well as section 776(b) of the Act, we are applying total adverse facts available to Xinghua. As adverse facts available, we are assigning Xinghua the rate of 386.75 percent which is also the PRC-wide rate, and the highest margin listed in the notice of initiation, as corroborated by the Department.

New Factual Information

As stated above in the “Case History” section, both Huatian and Taifa submitted revised U.S. sales and FOP databases on July 30, 2004. Taifa's July 30, 2004, submission included minor error corrections presented to the Department at the beginning of verification, revised usage data for allocated inputs (discussed above in the “Use of Facts Otherwise Available” section), and other changes unrelated to the minor error corrections or allocated inputs. Huatian's July 30, 2004, submission included minor error corrections presented to the Department at the beginning of verification and certain other changes unrelated to the minor error corrections.

For both companies, we are treating these other changes as untimely filed, unsolicited factual information.

Under 19 CFR 351.302(d), the Department normally would reject Huatian's and Taifa's July 30, 2004, submissions in their entirety and request the companies resubmit their revised FOP responses without the new information. However, due to time constraints and the pending final determination in this investigation, it was not feasible for the Department to reject and return Huatian's and Taifa's July 30, 2004, submissions, request revised submissions, and still be able to issue a final determination by the statutory deadline of October 6, 2004. As such, the Department has retained Huatian's and Taifa's July 30, 2004, submissions in their entirety. Although we have retained these responses, we have not considered the untimely filed, unsolicited information in making our final determination. See Comments 1 and 7 of the Decision Memorandum.

Analysis of Comments Received

All issues raised in the case briefs by parties to this proceeding and to which we have responded are listed in the Appendix to this notice and addressed in the Decision Memorandum, which is adopted by this notice. Parties can find a complete discussion of all issues raised in this investigation and the corresponding recommendations in this public memorandum, which is on file in the Central Records Unit, room B-099, of the main Department building. In addition, a complete version of the Decision Memorandum can be accessed directly on the Web at http://ia.ita.doc.gov or http://ia.ita.doc.gov/frn/index.html. The paper copy and electronic version of the Decision Memorandum are identical in content.

Changes Since the Preliminary Determination

Based on our analysis of comments received, we have made certain changes to the margin calculations. For a discussion of these changes, see the “Margin Calculations” section of the Decision Memorandum.

Verification

As provided in section 782(i) of the Act, we verified the information submitted by the respondents for use in our final determination. We used standard verification procedures including an examination of relevant accounting and production records, and original source documents provided by the respondents.

Continuation of Suspension of Liquidation

Pursuant to section 735(c)(1)(B) of the Act, we will instruct Customs and Border Protection (“CBP”) to continue to suspend liquidation of all imports of subject merchandise from the PRC entered, or withdrawn from warehouse, for consumption on or after May 24, 2004, the date of publication of our Preliminary Determination. CBP shall continue to require a cash deposit or the posting of a bond equal to the estimated amount by which the normal value exceeds the U.S. price as shown below. These instructions suspending liquidation will remain in effect until further notice.

The dumping margins are provided below:

Manufacturer/Exporter | Weighted-average margin (percent)
Huatian | 45.04
Taifa | 27.00
True Potential | 24.90
Xinghua | 386.75
Future Tool | 30.56
Shandong | 30.56
PRC-wide Rate | 386.75

The PRC-wide rate applies to all entries of the subject merchandise except for entries from exporters/producers that are identified individually above.

Disclosure

We will disclose the calculations performed within five days of the date of publication of this notice to parties in this proceeding in accordance with 19 CFR 351.224(b).

ITC Notification

In accordance with section 735(d) of the Act, we have notified the International Trade Commission (ITC) of our determination. As our final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the CBP to assess antidumping duties on all imports of the subject merchandise entered, or withdrawn from warehouse, for consumption on or after the effective date of the suspension of liquidation.

Notification Regarding APO

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 735(d) and 777(i)(1) of the Act.

Dated: October 6, 2004.
James J. Jochum,
Assistant Secretary for Import Administration.

Appendix—Issues in the Decision Memorandum

Comments

Company Specific Issues

Comment 1: The Department Should Apply Facts Available to Huatian, Taifa, True Potential, and Xinghua.

Huatian

Comment 2: The Department Should Revise Huatian's FOP Data to Account for Purchased Bearings.

Comment 3: The Department Should Assign an Appropriate Surrogate Value for Axle Rods for Huatian.

Comment 4: The Department Should Apply Facts Available to Value Steel Plate for Huatian.

Comment 5: The Department Should Treat Huatian's Hand Truck Samples as a Quantity Discount.

Comment 6: The Department Should Not Adjust Huatian's Sales Transactions with a Negative Net United States Price.

Taifa

Comment 7: The Department Should Accept Taifa's July 30, 2004, Submission.

Comment 8: The Department Should Disregard Taifa's Market Economy Purchases.

Comment 9: The Department Should Consider the Role Played by Taifa Import & Export Company in Calculating the SG&A Expenses for Taifa.

Comment 10: The Department Should Adjust Taifa's Sales Database to Reflect Customer Discounts.

Comment 11: The Department Should Revise Taifa's FOP Database to Account for Packing Materials.

True Potential

Comment 12: The Department Should Add Trading Company Factors for SG&A and Profit in Calculating True Potential's Normal Value.

Separate Rates

Comment 13: The Department Should Deny Separate-Rates Treatment for All Respondents.

Comment 14: The Department Should Not Calculate a Separate Rate for True Potential.

Comment 15: The Department Should Calculate a Separate Rate for Zhenhua.

Comment 16: The Department Should Not Calculate Separate Rates for Future Tool and Shangdong.

General Issues

Comment 17: The Department Should Not Use the Indian Electricity Tariff Because it is Aberrational.

Comment 18: The Department Miscalculated SG&A and Profit Amounts.

Comment 19: The Department Should Not Use Aberrational Financial Data to Value Factory Overhead, SG&A Expenses, and Profit.

Comment 20: The Department Should Include the Cost of Packing Materials and Labor in Calculating Factory Overhead and SG&A.

Comment 21: The Department Should Include Financial Data from an Indian Hand Truck Producer in Calculating Financial Ratios.

Comment 22: The Department Should Revise the Profit Rate for the Final Calculation.

[FR Doc. E4-2608 Filed 10-13-04; 8:45 am]

BILLING CODE 3510-DS-P